DEPARTMENT OF ENERGY

Federal Energy Regulatory Commission

Combined Notice of Filings

Take notice that the Commission has received the following Natural Gas Pipeline Rate and Refund Report filings:

Filings Instituting Proceedings

Docket Numbers: RP19-441-001.

Applicants: WTG Hugoton, LP.

Description: WTG Hugoton LP submits tariff filing per 260.402 Corrected FERC Form 501-G Filing to be effective N/A.

Filed Date: 12/11/18.

Accession Number: 20181211-5116.

Comments Due: 5 p.m. ET 12/24/18.

Docket Numbers: RP19-442-001.

Applicants: West Texas Gas, Inc.

Description: West Texas Gas submits tariff filing per 260.402 Corrected FERC Form 501-G Filing to be effective N/A.

Filed Date: 12/11/18.

Accession Number: 20181211-5145.

Comments Due: 5 p.m. ET 12/24/18.

Docket Numbers: RP19-443-001.

Applicants: Western Gas Interstate Company.

Description: Western Gas Interstate Company submits tariff filing per 260.402 Corrected FERC Form 501-G Filing to be effective N/A.

Filed Date: 12/11/18.

Accession Number: 20181211-5147.

Comments Due: 5 p.m. ET 12/24/18.

Docket Numbers: RP19-468-000.

Applicants: Anadarko Energy Services Company, Pacific Summit Energy LLC.

Description: Joint Petition for Temporary Waivers of Capacity Release Regulations and Policies, et al. of Anadarko Energy Services Company, et al. under RP19-468.

Filed Date: 12/17/18.

Accession Number: 20181217-5095.

Comments Due: 5 p.m. ET 12/24/18.

Docket Numbers: RP19-469-000.

Applicants: Enable Gas Transmission, LLC.

Description: § 4(d) Rate Filing: Negotiated Rate Filing-December 2018 pilgrims Pride 1010887 to be effective 12/17/2018.

Filed Date: 12/17/18.

Accession Number: 20181217-5373.

Comments Due: 5 p.m. ET 12/31/18.

Docket Numbers: RP19-470-000.

Applicants: Iroquois Gas Transmission System, L.P.

Description: § 4(d) Rate Filing: 121818 Negotiated Rates—Mercuria Energy America, Inc. R-7540-02 to be effective 1/1/2019.

Filed Date: 12/18/18.

Accession Number: 20181218-5009.

Comments Due: 5 p.m. ET 12/31/18.

Docket Numbers: RP19-471-000.

Applicants: American Midstream (AlaTenn), LLC.

Description: § 4(d) Rate Filing: General Terms and Conditions Section 37, Version 3.0.0. to be effective 1/1/2019.

Filed Date: 12/18/18.

Accession Number: 20181218-5287.

Comments Due: 5 p.m. ET 12/31/18.

Docket Numbers: RP19-472-000.

Applicants: Trailblazer Pipeline Company LLC.

Description: § 4(d) Rate Filing: NC Contract 2018-12-18 Colorado Springs Utilities to be effective 12/1/2018.

Filed Date: 12/18/18.

Accession Number: 20181218-5415.

Comments Due: 5 p.m. ET 12/31/18.

Docket Numbers: RP19-76-001.

Applicants: Kern River Gas Transmission Company.

Description: Compliance filing 2018 Tax Reform Settlement Filing to be effective 11/15/2018.

Filed Date: 12/18/18.

Accession Number: 20181218-5375.

Comments Due: 5 p.m. ET 12/26/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 19, 2018.
Nathaniel J. Davis, Sr.,
Deputy Secretary.

[FR Doc. 2018-28042 Filed 12-26-18; 8:45 am]

BILLING CODE 6717-01-P